DEPARTMENT OF ENERGY

Federal Energy Regulatory Commission

[Docket No. RP02-570-000]

Alliance Pipeline L.P.; Notice of Tariff Filing

October 2, 2002.

Take notice that on September 30, 2002, Alliance Pipeline L.P. (Alliance) tendered for filing as part of its FERC Gas Tariff, Original Volume No. 1, First Revised Sheet No. 279, to become effective November 1, 2002.

Alliance states that Sheet No. 279 sets forth the available delivery points on its pipeline system. Alliance further states that it has added a delivery point located at Will County, Illinois for the purpose of delivering volumes of natural gas to Guardian Pipeline L.L.C. Alliance is submitting First Revised Sheet No. 279 to reflect the addition of the new delivery point to the list of delivery points available under its FERC Gas Tariff. Alliance states that its filing is made pursuant to the authority of section 4 of the Natural Gas Act, 15 U.S.C. 717c.

Alliance states that copies of its filing have been mailed to all customers, state commissions, and other interested parties.

Any person desiring to be heard or to protest said filing should file a motion to intervene or a protest with the Federal Energy Regulatory Commission, 888 First Street, NE, Washington, DC 20426, in accordance with Sections 385.214 or 385.211 of the Commission's Rules and Regulations. All such motions or protests must be filed in accordance with Section 154.210 of the Commission's Regulations. Protests will be considered by the Commission in determining the appropriate action to be taken, but will not serve to make protestants parties to the proceedings. Any person wishing to become a party must file a motion to intervene. This filing is available for review at the Commission in the Public Reference Room or may be viewed on the Commission's Web site at http://www.ferc.gov using the “FERRIS” link. Enter the docket number excluding the last three digits in the docket number field to access the document. For Assistance, call (202)502-8222 or for TTY, (202) 502-8659. Comments, protests and interventions may be filed electronically via the Internet in lieu of paper. The Commission strongly encourages electronic filings. See, 18 CFR 385.2001(a)(1)(iii) and the instructions on the Commission's Web site under the “e-Filing” link.

Magalie R. Salas,
Secretary.

[FR Doc. 02-25566 Filed 10-7-02; 8:45 am]

BILLING CODE 6717-01-P